INTERNATIONAL TRADE COMMISSION

[Investigation No. 337-TA-855]

Certain Sintered Rare Earth Magnets, Methods of Making Same and Products Containing Same; Commission Determination Not to Review an Initial Determination Granting an Unopposed Motion by Complainants; Termination of the Investigation

AGENCY: U.S. International Trade Commission.

ACTION: Notice.

SUMMARY: Notice is hereby given that the U.S. International Trade Commission has determined not to review the presiding administrative law judge's (“ALJ”) initial determination (“ID”) (Order No. 130) granting complainants' unopposed motion to terminate the investigation as to remaining respondents Beats Electronics, LLC of Santa Monica, California (“Beat”); Bosch Security Systems, Inc. of Burnsville, Minnesota (“Bosch”); and Callaway Golf Co. of Carlsbad, California (“Callaway”) based upon withdrawal of the complaint, and terminating the investigation in its entirety.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 21, 2012, based on a complaint filed by Hitachi Metals, Ltd. of Tokyo, Japan and Hitachi Metals North Carolina, Ltd. of China Grove, North Carolina (collectively, “Hitachi Metals”). 77 FR 58578 (Sept. 21, 2012). The complaint alleged violations of section 337 of the Tariff Act of 1930, as amended, 19 U.S.C. 1337, in the importation into the United States, the sale for importation, and the sale within the United States after importation of certain sintered rare earth magnets, methods of making same and products containing same by reason of infringement of certain claims of United States Patent Nos. 6,461,565; 6,491,765; 6,527,874; and 6,537,385. The notice of investigation named several entities as respondents but only Beat, Bosch, and Callaway remain in the investigation.

On June 4, 2013, Hitachi Metals filed an unopposed motion to terminate the investigation as to respondents Beat, Bosch, and Callaway. Because Beat, Bosch, and Callaway are the only remaining respondents in the investigation, Hitachi Metals also moved for termination of the investigation in its entirety. On June 5, 2013, the Commission investigative attorney filed a response in support of the motion. No other responses to the motion were filed.

On June 13, 2013, the ALJ issued the subject ID, granting the motion and terminating the investigation in its entirety. The ALJ found that the motion complied with the requirements of Commission Rule 210.21(a) (19 CFR 210.21(a)) and that no extraordinary circumstances prohibited granting the motion. None of the parties petitioned for review of the ID.

The Commission has determined not to review the ID.

The authority for the Commission's determination is contained in section 337 of the Tariff Act of 1930, as amended (19 U.S.C. 1337), and in section 210.42 of the Commission's Rules of Practice and Procedure (19 CFR 210.42).

Issued: July 12, 2013.
By order of the Commission.
Lisa R. Barton,
Acting Secretary to the Commission.

[FR Doc. 2013-17174 Filed 7-17-13; 8:45 am]

BILLING CODE 7020-02-P